DEPARTMENT OF THE INTERIOR

Bureau of Ocean Energy Management

[Docket No. BOEM-2015-0062]

Wind Energy Research Lease Issuance on the Atlantic Outer Continental Shelf Offshore Virginia

AGENCY: Bureau of Ocean Energy Management (BOEM), Interior.

ACTION: Notice of Availability of a Research Lease of Submerged Lands for Renewable Energy Activities on the Outer Continental Shelf Offshore Virginia.

SUMMARY: BOEM has issued a wind energy research lease to the Commonwealth of Virginia, Department of Mines, Minerals and Energy for an area situated on the Outer Continental Shelf offshore Virginia. The purpose of this notice is to inform the public of the availability of the executed lease, Renewable Energy Lease No. OCS-A-0497.

Proposed activities on the lease include the installation and operation of wind turbine generators and resource assessment devices, as well as associated offshore substation platforms, interarray cables, and subsea export cables. The total acreage of the lease area is approximately 2,135 acres. The lease area is comprised of six aliquots (i.e., sub-blocks) lying within Official Protraction Diagram Currituck Sound NJ18-11 Blocks 6061 and 6111. The lease and supporting documentation, including required environmental compliance documentation and notices that solicited competitive interest, can be found online at: http://www.boem.gov/VOWTAP/.

Authority: This Notice of the Availability of a wind energy research lease is published pursuant to 30 CFR 585.238(f), which implements subsection 8(p) of the Outer Continental Shelf Lands Act (43 U.S.C. 1337(p)).

FOR FURTHER INFORMATION CONTACT: Mr. Casey Reeves, BOEM Office of Renewable Energy Programs, 45600 Woodland Road, Sterling, Virginia 20166, (703) 787-1320 or casey.reeves@boem.gov.

Dated: October 13, 2015.
Abigail Ross Hopper,
Director, Bureau of Ocean Energy Management.

[FR Doc. 2015-27875 Filed 10-30-15; 8:45 am]

BILLING CODE 4310-MR-P